ENVIRONMENTAL PROTECTION AGENCY

[ER-FRL-9036-2)]

Environmental Impact Statements; Notice of Availability

Responsible Agency: Office of Federal Activities, General Information (202) 564-7146 or http://www2.epa.gov/nepa/.

Weekly receipt of Environmental Impact Statements (EISs)

Filed 11/06/2017 Through 11/10/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170219, Draft Supplement, FRA, CA, California High-Speed Rail: Fresno to Bakersfield Section, Comment Period Ends: 01/16/2018, Contact: Stephanie Perez (202) 493-0388.

EIS No. 20170222, Final, NMFS, OR, Analyze Impacts of NOAA's National Marine Fisheries, Service joining as a signatory to a new U.S. v. Oregon, Management Agreement for the Years 2018-2027, Review Period Ends: 12/18/2017, Contact: Jeromy Jording (360) 753-9576.

EIS No. 20170223, Draft, NCPC, DC, South Mall Campus Master Plan, Comment Period Ends: 01/16/2018, Contact: Matthew Flis (202) 482-7236.

EIS No. 20170224, Draft, USACE, VA, Draft Integrated City of Norfolk Coastal Storm Risk Management Feasibility Study, Comment Period Ends: 01/02/2018, Contact: Kathy Perdue (757) 201-7218.

EIS No. 20170225, Final, DOS, DC, Foreign Missions Center at the Former Walter Reed Army Medical Center, Review Period Ends: 12/18/2017, Contact: Geoffrey Hunt (202) 647-7530.

EIS No. 20170226, Draft Supplement, BLM, AZ, Ray Land Exchange Plan Amendment, Comment Period Ends: 02/16/2018, Contact: Michael Werner (602) 417-9561.

EIS No. 20170227, Draft, TVA, TN, Cumberland Fossil Plant Coal Combustion Residual Management Operations, Comment Period Ends: 01/02/2018, Contact: Anita Masters (423) 751-8697.

EIS No. 20170228, Final, FHWA, NY, New York State Route 198 (Scajaquada Expressway) Corridor Project, Review Period Ends: 12/19/2017, Contact: Peter Osborn (518) 431-4127.

Dated: November 14, 2017.
Kelly Knight,
Director, NEPA Compliance Division, Office of Federal Activities.

[FR Doc. 2017-24973 Filed 11-16-17; 8:45 am]

BILLING CODE 6560-50-P